DEPARTMENT OF DEFENSE

48 CFR Parts 202, 204, 211, 212, 243, and 252

[DFARS Case 2003-D081]

Defense Federal Acquisition Regulation Supplement; Unique Item Identification and Valuation

AGENCY: Department of Defense (DoD).

ACTION: Notice of public meeting.

SUMMARY: DoD is sponsoring a public meeting to discuss the interim rule published at 68 FR 58631 on October 10, 2003. The rule amended the Defense Federal Acquisition Regulation Supplement (DFARS) to add policy on item identification and valuation that will apply to solicitations issued on or after January 1, 2004. The drafters of the rule will be at the meeting to discuss the rule and to hear the views of interested parties.

DATES: The meeting will be held on November 6, 2003, from 9 a.m. to 4 p.m., local time.

ADDRESSES: The meeting will be held at the University of Phoenix, Northern Virginia Campus, 11730 Plaza America Drive, Suite 2000, Reston, VA 20190.

FOR FURTHER INFORMATION CONTACT: Mr. Steven Cohen, Defense Acquisition Regulations Directorate, at (703) 602-0293, or steven.cohen@osd.mil.

Michele P. Peterson,
Executive Editor, Defense Acquisition Regulations Council.

[FR Doc. 03-26909 Filed 10-23-03; 8:45 am]

BILLING CODE 5001-08-P